DEPARTMENT OF AGRICULTURE

Food and Nutrition Service

Agency Information Collection Activities: Proposed Collection; Comment Request—FNS User Access Request Form FNS-674

AGENCY: Food and Nutrition Service (FNS), USDA.

ACTION: Notice.

SUMMARY: In accordance with the Paperwork Reduction Act of 1995, this notice invites the general public and other public agencies to comment on the proposed information collection. This is a revision of a currently approved collection. The purpose of this information collection request is to continue the use of the electronic form FNS-674, titled “User Access Request Form.” This form will continue to allow access to current FNS systems, modify access or remove user access.

DATES: Written comments must be received on or before October 28, 2014.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Leo Wong, Food and Nutrition Service, U.S. Department of Agriculture, 3101 Park Center Drive, Room 317, Alexandria, VA 22302. Comments may also be submitted via fax to the attention of Leo Wong at 703-605-4273 or via email to Leo.Wong@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Leo Wong at 703-605-1181.

SUPPLEMENTARY INFORMATION:

Title: User Access Request Form.

Form Number: FNS-674.

OMB Number: 0584-0532.

Expiration Date: 1/31/2015.

Type of Request: Revision of a currently approved collection.

Abstract: Form FNS-674 is designed to collect user information required to gain access to FNS Information Systems.

Affected Public: Contractors, State Agencies.

Estimated Number of Respondents: 2,700.

The respondents are State agencies, who are located in the 50 states and Trust Territories, staff contractors and Federal employees. Respondents who require access to the FNS systems are estimated at 3,600 annually (includes Federal, State and private) however, only 2,700 will account for the total public burden, excluding Federal employees. FNS estimates that it will receive an average of 300 requests per month (15 per day). Of the 300, 70 percent (or 210) of the responses are State Agency users, 5 percent (or 15) are staff contractors and 25 percent (or 75) are Federal employees which is not included in the total number of responses. Annually, that results in 2,700 respondents (210 State Agency users per month + 15 staff contractors per month × 12 months).

Estimated Number of Responses per Respondent: 1.9.

Estimated Total Annual Responses: 5,220.

Estimated Time per Response: 0.167 of an hour.

Each respondent takes approximately 0.167 of an hour, or 10 minutes, to complete the required information on the online form.

Estimated Total Annual Burden on Respondents: 870 hours.

See the table below for estimated total annual burden for each type of respondent.

Reporting Burden
Affected public | Form number | Number of respondents | Number of responses annually per respondent | Total annual responses | Estimate of burden hours per response | Total annual burden hours
Contractors | FNS-674 | 180 | 1 | 180 | 0.16667 (10 minutes) | 30
State Agency Users | FNS-674 | 2,520 | 2 | 5,040 | 0.16667 (10 minutes) | 840
Annualized Totals |  | 2,700 | 1.9 | 5,220 | 10 minutes | 870

Dated: August 19, 2014.
Audrey Rowe,
Administrator, Food and Nutrition Service.

[FR Doc. 2014-20536 Filed 8-28-14; 8:45 am]

BILLING CODE 3410-30-P